DEPARTMENT OF THE INTERIOR

Bureau of Land Management

[DOI-2020-0008; LLOC400000.L18500000.YC0000.LIITADC10000.20X]

Privacy Act of 1974; System of Records

AGENCY: Bureau of Land Management, Interior.

ACTION: Rescindment of system of records notices.

SUMMARY: In accordance with the Privacy Act of 1974, as amended, the Department of the Interior (DOI) is rescinding 11 system of records notices from its existing inventory. These systems were managed by the Bureau of Land Management (BLM) and are no longer in use, or have been superseded by Government-wide, Department-wide, or other BLM system of records notices; however, they have not been formally rescinded. This notice formally rescinds the 11 system of records notices identified below.

DATES: These changes take effect on July 30, 2021.

ADDRESSES: You may submit comments identified by docket number [DOI-2020-0008] by any of the following methods:

• Federal eRulemaking Portal: http://www.regulations.gov. Follow the instructions for submitting comments.

• Email: DOI_Privacy@ios.doi.gov. Include docket number [DOI-2020-0008] in the subject line of the message.

• U.S. Mail or Hand-Delivery: Teri Barnett, Departmental Privacy Officer, U.S. Department of the Interior, 1849 C Street NW, Room 7112, Washington, DC 20240.

Instructions: All submissions received must include the agency name and docket number [DOI-2020-0008]. All comments received will be posted without change to http://www.regulations.gov, including any personal information provided.

Docket: For access to the docket to read background documents or comments received, go to http://www.regulations.gov.

You should be aware that your entire comment including your personal identifying information, such as your address, phone number, email address, or any other personal identifying information in your comment, may be made publicly available at any time. While you may request to withhold your personal identifying information from public review, we cannot guarantee we will be able to do so.

FOR FURTHER INFORMATION CONTACT: Catherine Brean, Associate Privacy Officer, Bureau of Land Management, DOI National Operations Center, Bldg. 50, Denver, Colorado 80224-0047, blm_wo_privacy@blm.gov or (830) 225-3459.

SUPPLEMENTARY INFORMATION: Pursuant to the provisions of the Privacy Act of 1974, as amended, the BLM is rescinding the following 11 system of records notices from its system of records inventory. As part of an annual review of system notices, the BLM determined that these system of records notices are obsolete or superseded by a published Government-wide, Department-wide, or BLM system of records notice. The original publication of these system of records notices is covered below in the history section, including a modification published in the Federal Register at 73 FR 17376 (April 1, 2008) to add a new routine use for each system of records to authorize disclosure of information to appropriate agencies, entities, and persons in the event of a data breach, in accordance with the Office of Management and Budget Memorandum M-07-16, Safeguarding Against and Responding to the Breach of Personally Identifiable Information.

1. INTERIOR/BLM-9, Property and Supplies Accountability. This system of records notice has been superseded by two Department-wide system of records notices. The records contained in the system are covered by and maintained under INTERIOR/DOI-87, Acquisition of Goods and Services: FBMS, 73 FR 43766 (July 28, 2008); and INTERIOR/DOI-86, Accounts Receivable: FBMS, 73 FR 43772 (July 28, 2008).

2. INTERIOR/BLM-12, Manpower Management. This system of records notice has been superseded by a Government-wide system of records notice. The records contained in the system of records are covered by and maintained under OPM/GOVT-1, General Personnel Records, 77 FR 73694 (December 11, 2012); modification published at 80 FR 74815 (November 30, 2015).

3. INTERIOR/BLM-14, Security Clearance Files. This system of records notice has been superseded by a Department-wide system of records notice. The records contained in the system of records are covered by and maintained under INTERIOR/DOI-45, HSPD-12: Identity Management System and Personnel Security Files, 72 FR 11036 (March 12, 2007).

4. INTERIOR/BLM-21, Travel. This system of records notice has been superseded by two Government-wide system of records notices. The records contained in the system of records are covered by and maintained under GSA/GOVT-3, Travel Charge Card Program, 78 FR 20108 (April 3, 2013); and GSA/GOVT-4, Contracted Travel Services Program, 74 FR 26700 (June 3, 2009).

5. INTERIOR/BLM-22, Financial Management. This system of records notice has been superseded by two Department-wide system of records notices. The records contained in the system of records are covered by and maintained under INTERIOR/DOI-86, Accounts Receivable: FBMS, 73 FR 43772 (July 28, 2008); and INTERIOR/DOI-87, Acquisition of Goods and Services: FBMS, 73 FR 43766 (July 28, 2008).

6. INTERIOR/BLM-23, Contract Files. This system of records notice has been superseded by a Department-wide system of records notice. The records contained in the system of records are covered by and maintained under INTERIOR/DOI-87, Acquisition of Goods and Services: FBMS, 73 FR 43766 (July 28, 2008).

7. INTERIOR/BLM-24, Copy Fee Deposit. This system of records notice is outdated and is no longer in use. Any records of purchases of items from the BLM would be covered by and maintained under INTERIOR/DOI-86, Accounts Receivable: FBMS, 73 FR 43772 (July 28, 2008).

8. INTERIOR/BLM-26, Incentive and Honor Awards. This system of records notice has been superseded by a Government-wide system of records notice. The records contained in the system of records are covered by and maintained under OPM/GOVT-1, General Personnel Records, 77 FR 73694 (December 11, 2012); modification published at 80 FR 74815 (November 30, 2015).

9. INTERIOR/BLM-27, Real Estate Appraiser Roster. This system is obsolete and the records are no longer maintained. DOI Secretarial Order No. 3251 signed on November 12, 2003 discontinued this program. All records have been disposed of in accordance with an approved records retention schedule.

10. INTERIOR/BLM-31, Name File System. This system of records is obsolete. Any records of the type identified in this system of records notice are covered by and maintained under one BLM system of records notice and two Department-wide system of records notices: INTERIOR/BLM-32, Land & Minerals Authorization Tracking System, 56 FR 5014 (February 7, 1991); modification published at 73 FR 17376 (April 1, 2008); INTERIOR/DOI-87, Acquisition of Goods and Services: FBMS, 73 FR 43766 (July 28, 2008); and INTERIOR/DOI-86, Accounts Receivable: FBMS, 73 FR 43772 (July 28, 2008).

11. INTERIOR/BLM-35, Collections and Billings System (CBS). This system of records notice has been superseded by a Department-wide system of records notice. The records contained in the system of records are covered by and maintained under INTERIOR/DOI-86, Accounts Receivable: FBMS, 73 FR 43772 (July 28, 2008).

These 11 system of records notices were identified as no longer needed due to being superseded by other published system of records notices or are no longer in use. Rescinding these system of records notices will have no adverse impacts on individuals. This rescindment will also promote the overall streamlining and management of DOI Privacy Act systems of records. This notice hereby rescinds the BLM system of records notices identified below.

SYSTEM NAME AND NUMBER:

1. INTERIOR/BLM-9, Property and Supplies Accountability

2. INTERIOR/BLM-12, Manpower Management

3. INTERIOR/BLM-14, Security Clearance Files

4. INTERIOR/BLM-21, Travel

5. INTERIOR/BLM-22, Financial Management

6. INTERIOR/BLM-23, Contract Files

7. INTERIOR/BLM-24, Copy Fee Deposit

8. INTERIOR/BLM-26, Incentive and Honor Awards

9. INTERIOR/BLM-27, Real Estate Appraiser Roster

10. INTERIOR/BLM-31, Name File System

11. INTERIOR/BLM-35, Collections and Billings System (CBS)

HISTORY:

1. INTERIOR/BLM-9, Property and Supplies Accountability, 47 FR 55317 (December 8, 1982); modification published at 73 FR 17376 (April 1, 2008).

2. INTERIOR/BLM-12, Manpower Management, 47 FR 55317 (December 8, 1982); modification published at 73 FR 17376 (April 1, 2008).

3. INTERIOR/BLM-14, Security Clearance Files, 42 FR 19114 (April 11, 1977); modification published at 73 FR 17376 (April 1, 2008).

4. INTERIOR/BLM-21, Travel, 51 FR 25109 (July 10, 1986); modification published at 73 FR 17376 (April 1, 2008).

5. INTERIOR/BLM-22, Financial Management, 51 FR 25110 (July 10, 1986); modification published at 73 FR 17376 (April 1, 2008).

6. INTERIOR/BLM-23, Contract Files, 47 FR 55317 (December 8, 1982); modification published at 73 FR 17376 (April 1, 2008).

7. INTERIOR/BLM-24, Copy Fee Deposit, 51 FR 25110 (July 10, 1986); modification published at 73 FR 17376 (April 1, 2008).

8. INTERIOR/BLM-26, Incentive and Honor Awards, 42 FR 19118 (April 11, 1977; modification published at 73 FR 17376 (April 1, 2008).

9. INTERIOR/BLM-27, Real Estate Appraiser Roster, 42 FR 19118 (April 11, 1977); modification published at 73 FR 17376 (April 1, 2008).

10. INTERIOR/BLM-31, Name File System, 56 FR 5014 (February 7, 1991); modification published at 73 FR 17376 (April 1, 2008).

11. INTERIOR/BLM-35, Collections and Billings System (CBS), 65 FR 502 (January 5, 2000); modification published at 73 FR 17376 (April 1, 2008).

Teri Barnett,
Departmental Privacy Officer, Department of the Interior.

[FR Doc. 2021-16223 Filed 7-29-21; 8:45 am]

BILLING CODE 4310-84-P